DEPARTMENT OF TRANSPORTATION

Federal Aviation Administration

14 CFR Part 39

[Docket No. FAA-2008-1242; Directorate Identifier 96-SW-13-AD]

RIN 2120-AA64

Airworthiness Directives; Bell Helicopter Textron Canada Model 206L, 206L-1, and 206L-3 Helicopters

AGENCY: Federal Aviation Administration, DOT.

ACTION: Notice of proposed rulemaking (NPRM).

SUMMARY: This document proposes to revise an existing airworthiness directive (AD) for Bell Helicopter Textron Canada (BHTC) Model 206L, 206L-1, and 206L-3 helicopters with certain part-numbered tailbooms. That AD currently requires a visual inspection of the tailboom skin in the areas around the nutplates and in the areas of the tailboom drive shaft cover retention clips for cracks and corrosion using a 10-power or higher magnifying glass until the tailboom is replaced with an airworthy tailboom. This action would require the same actions as the existing AD but would allow a longer interval for the repetitive inspections if the tailboom is modified. Replacement with an airworthy tailboom other than a part-numbered tailboom affected by this proposal would constitute terminating action for the requirements of this AD. The existing AD was prompted by an accident and several reports of fatigue cracks in the tailboom skin in the areas around the nutplates for the tail rotor fairing and in the areas of the tail rotor drive shaft cover retention clips. These proposed actions are intended to prevent failure of the tailboom and subsequent loss of control of the helicopter.

DATES: Comments must be received by January 26, 2009.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Bell Helicopter Textron Canada, 12,800 Rue de l'Avenir, Mirabel, Quebec J7J1R4, telephone (450) 437-2862 or (800) 363-8023, fax (450) 433-0272, or at http://www.bellcustomer.com/files/.

Examining the Docket: You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Comments Invited

We invite you to submit any written data, views, or arguments regarding this proposed AD. Send your comments to the address listed under the caption ADDRESSES. Include the docket number “FAA-2008-1242, Directorate Identifier 96-SW-13-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78).

Discussion

On August 22, 1996, we issued AD 96-18-05, Amendment 39-9729 (61 FR 45876, August 30, 1996), to require, before further flight, and thereafter at intervals not to exceed 50 hours time-in-service (TIS), a visual inspection of the tailboom skin in the areas around the nutplates and in the areas of the tailboom drive shaft cover retention clips for cracks and corrosion using a 10-power or higher magnifying glass. That AD requires the 50-hour TIS inspection regardless of whether the tailboom has been modified in accordance with Bell Helicopter Textron Alert Service Bulletin No. 206L-87-47, Revision C, dated October 23, 1989 (ASB). That AD also requires repeating those inspections until the tailboom is replaced with a tailboom, part number (P/N) 206-033-004-143 or -177. That action was prompted by an accident and several reports of fatigue cracks in the tailboom skin in the areas around the nutplates for the tail rotor fairing and in the areas of the tail rotor drive shaft cover retention clips. That condition, if not corrected, could result in failure of the tailboom and subsequent loss of control of the helicopter.

Since issuing that AD, we have re-evaluated our AD determination that modified tailbooms should be inspected at intervals not to exceed 50 hours TIS. Therefore, we have issued several alternate method of compliances (AMOCs) to allow owners and operators to conduct 100 hours TIS repetitive inspections, as described in the ASB, instead of the 50 hours TIS repetitive inspections required by the existing AD for those tailbooms modified in accordance with Part I of the ASB. We have determined that increasing the inspection interval for modified tailbooms does not compromise the safety of this helicopter. To provide this relief to all operators, we have decided to propose to revise the AD.

This helicopter model is manufactured in Canada and is type certificated for operation in the United States under the provisions of 14 CFR 21.29 and the applicable bilateral agreement. When AD 96-18-05 was issued, the type certificate for these affected model helicopters was in the U.S. and the FAA had oversight responsibility for these model helicopters. Transport Canada issued an AD following the FAA AD, except that Transport Canada required modifying the tailboom in accordance with the ASB and increasing the inspection interval to 100 hours TIS. Subsequently, these type certificates were transferred to Canada.

Therefore, the proposed AD would revise AD 96-18-05 to allow an increased inspection interval to 100 hours TIS for a tailboom modified in accordance with the ASB. The inspection interval for an unmodified tailboom would remain at 50 hours TIS. The visual inspection of the tailboom skin in the areas around the nutplates and in the areas of the tailboom drive shaft cover retention clips for cracks and corrosion using a 10-power or higher magnifying glass would still be required. The proposed AD would also require repeating the 50-hour TIS inspections until the tailboom is modified per the requirements of the AD. Once modified, repeating the 100 hour TIS inspection until the tailboom is replaced with a tailboom, part number (P/N) 206-033-004-143 or -177, or a tailboom not affected by this AD, would be required.

We estimate that this proposed AD would affect 551 helicopters of U.S. registry, and the proposed actions would take approximately 0.8 work hour per helicopter to inspect and 8 work hours per helicopter to modify, at an average labor rate of $80 per work hour. If a helicopter is modified to increase the inspection intervals, required parts would cost approximately $385. Based on these figures, we estimate the total cost impact of the proposed AD on U.S. operators to be $423,168 per year, assuming all the helicopters are unmodified and 12 50-hour TIS inspections per helicopter. If we assume that all helicopters are modified at the beginning of the year, the cost impact of the proposed AD on U.S. operators would be $776,359 for the first year, assuming there are 6 100-hour TIS inspections the first year, and $211,584 for each year thereafter.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the AD docket to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-9729 (61 FR 45876, August 30, 1996), and by adding a new airworthiness directive (AD), to read as follows:

Bell Helicopter Textron Canada: Docket No. FAA-2008-1242; Directorate Identifier 96-SW-13-AD. Revises AD 96-18-05, Amendment 39-9729.

Applicability: Model 206L, 206L-1, and 206L-3 helicopters, with tailboom, part number (P/N) 206-033-004-003, -011, -045, or -103, installed, certificated in any category.

Compliance: Required as indicated.

To prevent failure of the tailboom and subsequent loss of control of the helicopter, accomplish the following:

(a) Before further flight, unless accomplished previously, using a 10-power or higher magnifying glass, inspect the tailboom for cracks or corrosion in accordance with the Accomplishment Instructions, Part II, steps (1) through (7), of Bell Helicopter Textron Alert Service Bulletin No. 206L-87-47, Revision C, dated October 23, 1989 (ASB).

(b) For a tailboom that has not been modified in accordance with the Accomplishment Instructions, Part I of the ASB, using a 10-power or higher magnifying glass, inspect the tailboom for a crack at intervals not to exceed 50 hours time-in-service (TIS) in accordance with the Accomplishment Instructions, Part II, steps (1) through (7), of the ASB.

(c) For a tailboom that has been modified in accordance with the Accomplishment Instructions, Part I, of the ASB, using a 10-power or higher magnifying glass, inspect the tailboom for a crack or corrosion at intervals not to exceed 100 hours TIS in accordance with the Accomplishment Instructions, Part II and Part III of the ASB, except you are not required to contact the manufacturer.

(d) If a crack or corrosion is detected that is beyond the repairable limits stated in the applicable maintenance manual, remove the tailboom and replace it with an airworthy tailboom.

(e) Replacing the tailboom with a tailboom, P/N 206-033-004-143 or -177, or an airworthy part-numbered tailboom that is not listed in the Applicability section of this AD, constitutes a terminating action for the requirements of this AD.

(f) To request a different method of compliance or a different compliance time for this AD, follow the procedures in 14 CFR 39.19. Contact the Manager, Safety Management Group, FAA, ATTN: Sharon Miles, Aviation Safety Engineer, FAA, Rotorcraft Directorate, Regulations and Guidance Group, Fort Worth, Texas 76193-0111, telephone (817) 222-5122, fax (817) 222-5961, for information about previously approved alternative methods of compliance.

(g) Special flight permits will not be issued.

Issued in Fort Worth, Texas, on November 18, 2008.
Mark R. Schilling,
Acting Manager, Rotorcraft Directorate, Aircraft Certification Service.

[FR Doc. E8-28113 Filed 11-25-08; 8:45 am]

BILLING CODE 4910-13-P